DEPARTMENT OF DEFENSE

Office of the Secretary

[DoD-2006-OS-0073]

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: July 10, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Alabama

Installation Name: AMSA 51.

LRA Name: City of Tuscaloosa.

Point of Contact: Evelyn K. Young, AICP, Associate Director, Community Planning & Development Department, City of Tuscaloosa.

Address: P.O. Box 2089, Tuscaloosa, AL 35403.

Phone: (205) 349-0160.

Installation Name: Finnell AFRC.

LRA Name: City of Tuscaloosa.

Point of Contact: Evelyn K. Young, AICP, Associate Director, Community Planning & Development Department, City of Tuscaloosa.

Address: P.O. Box 2089, Tuscaloosa, AL 35403.

Phone: (205) 349-0160.

Installation Name: Cleveland Leight Abbott USARC.

LRA Name: Tuskegee Local Redevelopment Authority.

Point of Contact: Alfred J. Davis, City Manager, City of Tuskegee.

Address: 101 Fonville Street, Tuskegee, AL 36083.

Phone: (334) 727-833.

Michigan

Installation Name: George Dolliver USARC/AMSA 135.

LRA Name: Battle Creek Local Redevelopment Authority.

Point of Contact: Michael J. Buckley, Planning and Community Development Director, City of Battle Creek.

Address: P.O. Box 1717, Battle Creek, MI 49016-1717.

Phone: (269) 966-3320.

Missouri

Installation Name: Marine Corps Support Activity Kansas City.

LRA Name: City of Kansas City.

Point of Contact: Edgar Jordan, Division Head, Property & Relocation Services, City Planning & Development Department, City of Kansas City.

Address: 16th Floor, City Hall, Kansas City, MO 64106.

Phone: (816) 513-2894.

Oregon

Installation Name: 2LT Alfred Sharff USARC.

LRA Name: Portland Development Commission.

Point of Contact: Ryan Moore, Project Coordinator/Housing Department, Portland Development Commission.

Address: 222 NW., Fifth Avenue, Portland, OR 97209-3859.

Phone: (503) 823-3278.

Installation Name: SGT Jerome Sears USARC.

LRA Name: Portland Development Commission.

Point of Contact: Ryan Moore, Project Coordinator/Housing Department, Portland Development Commission.

Address: 222 NW. Fifth Avenue, Portland, OR 97209-3859.

Phone: (503) 823-3278.

Pennsylvania

Installation Name: Wilkes-Varre USARC.

LRA Name: Township of Plains.

Point of Contact: Rose Corcoran, Commissioner, Plains Township Board of Commissioners.

Address: Plains Township Municipal Building, 126 Main Street, Plains, PA 18705.

Phone: (570) 829-3439.

Washington

Installation Name: 2LT Robert R. Leisy USARC/AMSA 79.

LRA Name: City of Seattle.

Point of Contact: Linda Cannon.

Address: Office of Intergovernmental Relations, City of Seattle, 600 4th Avenue, FL 5, P.O. Box 94746, Seattle, WA 98124-4746.

Phone: (206) 684-8263.

Installation Name: CPT James R. Harvey USARC.

LRA Name: City of Seattle.

Point of Contact: Linda Cannon.

Address: Office of Intergovernmental Relations, City of Seattle, 600 4th Avenue, FL 5, P.O. Box 94746, Seattle, WA 98124-4746.

Phone: (206) 684-8263.

Installation Name: Fort Lawton USAR Complex.

LRA Name: City of Seattle.

Point of Contact: Linda Cannon.

Address: Office of Intergovernmental Relations, City of Seattle, 600 4th Avenue, FL 5, P.O. Box 94746, Seattle, WA 98124-4746.

Phone: (206) 684-8263.

West Virginia

Installation Name: SSG Kuhl USARC/AMSA 114.

LRA Name: City of Ripley.

Point of Contact: Ollie M. Harvey, Mayor, City of Ripley.

Address: 203 South Church Street, Ripley, WV 25271.

Phone: (304) 372-3482.

Dated: June 30, 2006.
L.M. Bynum,
OSD Federal Register Liaison Officer, Department of Defense.

[FR Doc. 06-6078 Filed 7-7-06; 8:45 am]

BILLING CODE 5001-06-M